SECURITIES AND EXCHANGE COMMISSION

Sunshine Act Meeting; Cancellation

FEDERAL REGISTER CITATION OF PREVIOUS ANNOUNCEMENT: 84 FR 48672, September 16, 2019.

PREVIOUSLY ANNOUNCED TIME AND DATE OF THE MEETING: Wednesday, September 18, 2019 at 10:00 a.m.

CHANGES IN THE MEETING: The Open Meeting scheduled for Wednesday, September 18, 2019 at 10:00 a.m., has been cancelled.

CONTACT PERSON FOR MORE INFORMATION: For further information; please contact Vanessa A. Countryman from the Office of the Secretary at (202) 551-5400.

Dated: September 16, 2019.
Vanessa A. Countryman,
Secretary.

[FR Doc. 2019-20332 Filed 9-16-19; 4:15 pm]

BILLING CODE 8011-01-P